NATIONAL SCIENCE FOUNDATION

National Artificial Intelligence Research Resource Task Force; Notice of Meeting

In accordance with the Federal Advisory Committee Act (Pub. L. 92-463, as amended), the National Science Foundation (NSF) announces the following meeting:

Name and Committee Code: National Artificial Intelligence Research Resource Task Force (84629).

Date and Time: October 21, 2022, 1:00 p.m. to 3:00 p.m. EDT.

Place: NSF 2415 Eisenhower Avenue, Alexandria, VA 22314/Virtual.

Virtual meeting attendance only; to attend the virtual meeting, please send your request for the virtual meeting link to the following email: cmessam@nsf.gov.

Type of Meeting: Open.

Contact Person: Brenda Williams, National Science Foundation, 2415 Eisenhower Avenue, Alexandria, VA 22314; Telephone: 703-292-8900; email: bwilliam@nsf.gov.

Purpose of Meeting: The Task Force shall investigate the feasibility and advisability of establishing and sustaining a National Artificial Intelligence Research Resource; and propose a roadmap detailing how such resource should be established and sustained.

Agenda: In this meeting, the Task Force will deliberate on the implementation plan and roadmap for the NAIRR that will be submitted as the Task Force's final report to the President and Congress.

Dated: September 16, 2022.
Crystal Robinson,
Committee Management Officer.

[FR Doc. 2022-20478 Filed 9-21-22; 8:45 am]

BILLING CODE 7555-01-P